OFFICE OF SCIENCE AND TECHNOLOGY POLICY

Aeronautics Science and Technology Subcommittee; Committee on Technology; National Science and Technology Council

ACTION: Notice of meeting—public consultation on the National Aeronautics Research and Development Plan and Related Infrastructure Plan.

SUMMARY: The Aeronautics Science and Technology Subcommittee (ASTS) of the National Science and Technology Council's (NSTC) Committee on Technology will hold a public meeting to discuss development of the National Aeronautics Research and Development (R&D) Plan and a related aeronautics R&D Infrastructure Plan. Executive Order (E.O.) 13419—National Aeronautics Research and Development—signed December 20, 2006, calls for the development of these Plans within one year. The Plans are to be guided by the National Aeronautics Research and Development Policy that was prepared by the National Science and Technology Council and endorsed by E.O. 13419. Details on white papers requested for submission to the ASTS will also be given at the meeting.

DATES AND ADDRESSES: The meeting will be held Tuesday, April 24, 2007, 2 p.m. to 5 p.m. (EST) in the auditorium of the National Academies of Sciences Building, 2101 Constitution Avenue, NW., Washington, DC 20418 (enter the building through the C Street entrance).

FOR FURTHER INFORMATION CONTACT: Jon Montgomery, Office of Aerospace and Automotive Industries, Room 4020, U.S. Department of Commerce, 1401 Constitution Avenue, NW., Washington, DC 20230, telephone (202) 482-3353, or visit the Office of Science and Technology Policy NSTC Web site at: http://www.ostp.gov/nstc/aeroplans.

SUPPLEMENTARY INFORMATION: E.O. 13419 and the National Aeronautics R&D Policy call for executive departments and agencies conducting aeronautics R&D to engage industry, academia and other non-Federal stakeholders in support of government planning and performance of aeronautics R&D. At this meeting, ASTS members will discuss the proposed structure and content of the National Aeronautics R&D Plan and related Infrastructure Plan, including a taxonomy of aeronautics R&D, and expectations and potential outcomes of the Plans. The main purpose of the meeting is to obtain facts and information from individuals on these topic areas.

Following the public meeting on April 24, 2007, individuals in academia and industry and other aeronautics experts are invited to submit white papers to provide additional input into the development of the National Aeronautics R&D Plan and related Infrastructure Plan. Although the call for white papers is primarily intended to solicit viewpoints from outside of the Federal government, the Federal aeronautics R&D community is also welcome to respond. More specific details regarding content and submission of white papers will be provided at the meeting and posted on the Web at: http://www.ostp.gov/nstc/aeroplans following the meeting. Links to E.O. 13419 and the National Aeronautics R&D Policy are also available at this Web site.

This meeting will be physically accessible to people with disabilities. Seating is limited and will be on a first come, first served basis and hence registration is required. Registration, as well as requests for sign language interpretation or other auxiliary aids, should be submitted no later than April 18, 2007 to Jon Montgomery, Office of Aerospace and Automotive Industries, Room 4020, U.S. Department of Commerce, 1401 Constitution Avenue, NW., Washington, DC 20230, telephone (202) 482-3353, or e-mail Jon.Montgomery@mail.doc.gov.

M. David Hodge,
Operations Manager, OSTP.

[FR Doc. E7-6308 Filed 4-4-07; 8:45 am]

BILLING CODE 3170-W7-P